DEPARTMENT OF ENERGY

Federal Energy Regulatory Commission

Combined Notice of Filings # 1

November 19, 2007.

Take notice that the Commission received the following electric rate filings:

Docket Numbers: ER02-1656-034; EL01-68-031.

Applicants: California Independent System Operator Corporation.

Description: Sempra Energy Trading LLC submits a report to state that it does not seek any payment in excess of the negative $30/MWh Cap.

Filed Date: 11/07/2007.

Accession Number: 20071114-0090.

Comment Date: 5 p.m. Eastern Time on Wednesday, November 28, 2007.

Docket Numbers: ER03-428-005.

Applicants: ConocoPhillips Company.

Description: ConocoPhillips Company submits Substitute Third Revised Sheet 1 to its revised FERC Electric Tariff 1, to become effective 9/18/07.

Filed Date: 11/13/2007.

Accession Number: 20071114-0205.

Comment Date: 5 p.m. Eastern Time on Monday, November 26, 2007.

Docket Numbers: ER04-708-004.

Applicants: Horsehead Corp.

Description: Notice of non-material change in status re Horsehead Corp.

Filed Date: 11/09/2007.

Accession Number: 20071114-0077.

Comment Date: 5 p.m. Eastern Time on Friday, November 30, 2007.

Docket Numbers: ER06-758-002; ER06-635-001; ER02-237-009; ER95-1007-020; ER01-2741-005; ER07-34-002; ER03-1151-005; ER00-2235-002; ER99-3320-005; ER06-759-001; ER03-922-006; ER06-634-001.

Applicants: Chambers Cogeneration LP; Edgecombe Genco, LLC; J. Aron & Company; Logan Generating Company, LP; Plains End, LLC; Plains End II, LLC; Power Receivable Finance, LLC; Ouachita Power, LLC; Rathdrum Power, LLC; Selkirk Cogen Partners, L.P.; Southaven Power, LLC; Spruance Genco, LLC.

Description: Chambers Cogeneration, Limited Partnership et al. submit a notice of non-material change in status in compliance with FERC's Order 652.

Filed Date: 11/09/2007.

Accession Number: 20071114-0078.

Comment Date: 5 p.m. Eastern Time on Friday, November 30, 2007.

Docket Numbers: ER07-970-002.

Applicants: Midwest Independent Transmission System Operator, Inc.

Description: Midwest Independent Transmission System Operator, Inc. submits a compliance filing of a Large Generator Interconnection Agreement.

Filed Date: 11/13/2007.

Accession Number: 20071115-0057.

Comment Date: 5 p.m. Eastern Time on Tuesday, December 4, 2007.

Docket Numbers: ER07-1203-001.

Applicants: Duke Energy Carolinas, LLC.

Description: Duke Energy Carolinas, LLC submits additional information to support their filing and request to waive the Commission's regulations in order to make the filing effective 1/1/08.

Filed Date: 11/08/2007.

Accession Number: 20071113-0006.

Comment Date: 5 p.m. Eastern Time on Thursday, November 29, 2007.

Docket Numbers: ER07-1250-002.

Applicants: PowerGrid Systems, Inc.

Description: PowerGrid Systems, Inc. submits a Substitute Original Sheet 1 and Original Sheet 2 to its FERC Electric Tariff, Original Volume 1.

Filed Date: 11/15/2007.

Accession Number: 20071119-0019.

Comment Date: 5 p.m. Eastern Time on Thursday, December 6, 2007.

Docket Numbers: ER07-1268-002.

Applicants: PacifiCorp.

Description: Compliance Filing of PacifiCorp.

Filed Date: 11/15/2007.

Accession Number: 20071115-5002.

Comment Date: 5 p.m. Eastern Time on Thursday, December 6, 2007.

Docket Numbers: ER07-1367-001.

Applicants: American Electric Power Service Corporation.

Description: AEP Operating Companies submits their Third Revised Interconnection and Local Delivery Service Agreement with Elk Power Co.

Filed Date: 11/15/2007.

Accession Number: 20071119-0015.

Comment Date: 5 p.m. Eastern Time on Thursday, December 6, 2007.

Docket Numbers: ER07-1402-001.

Applicants: Allegheny Generating Company.

Description: Supplemental Submission of Allegheny Generating Company.

Filed Date: 10/26/2007.

Accession Number: 20071026-5037.

Comment Date: 5 p.m. Eastern Time on Thursday, November 29, 2007.

Docket Numbers: ER08-193-000.

Applicants: Pacific Gas and Electric Company.

Description: Pacific Gas and Electric Co. submits the Midway Interconnection Agreement with Southern California Edison Co.

Filed Date: 11/07/2007.

Accession Number: 20071116-0320.

Comment Date: 5 p.m. Eastern Time on Wednesday, November 28, 2007.

Docket Numbers: ER08-205-000.

Applicants: PJM Interconnection, L.L.C.

Description: PJM Interconnection LLC submits its revisions to Schedule 2 of the PJM Open Access Transmission Tariff.

Filed Date: 11/13/2007.

Accession Number: 20071114-0076.

Comment Date: 5 p.m. Eastern Time on Tuesday, December 4, 2007.

Docket Numbers: ER08-213-000.

Applicants: Round Rock Energy, LP.

Description: Round Rock Energy, LP requests that FERC accept its FERC Electric Tariff, Original Volume 1 etc.

Filed Date: 11/14/2007.

Accession Number: 20071116-0042.

Comment Date: 5 p.m. Eastern Time on Wednesday, December 5, 2007.

Docket Numbers: ER08-214-000.

Applicants: Deephaven RV Sub Fund Ltd.

Description: Deephaven RV Sub Fund Ltd submits a Notice of Cancellation, a Second Revised Sheet 1 to its market-based rate tariff and a Notice of Filing requesting that FERC accept the cancellation documents.

Filed Date: 11/15/2007.

Accession Number: 20071119-0001.

Comment Date: 5 p.m. Eastern Time on Thursday, December 6, 2007.

Docket Numbers: ER08-215-000.

Applicants: Indiana Michigan Power Company.

Description: Indiana Michigan Power Company submits First Revised Sheet 15 et al. to FERC Electric Rate Schedule 109.

Filed Date: 11/15/2007.

Accession Number: 20071119-0002.

Comment Date: 5 p.m. Eastern Time on Thursday, December 6, 2007.

Docket Numbers: ER08-216-000.

Applicants: Indiana Michigan Power Company.

Description: Indiana Michigan Power Company submits First Revised Sheet 15 et al. to its FERC Rate Schedule 105.

Filed Date: 11/15/2007.

Accession Number: 20071119-0003.

Comment Date: 5 p.m. Eastern Time on Thursday, December 6, 2007.

Docket Numbers: ER08-217-000.

Applicants: Indiana Michigan Power Company.

Description: Indiana Michigan Power Company submits First Revised Sheet 15 et al. to its FERC Rate Schedule 104.

Filed Date: 11/15/2007.

Accession Number: 20071119-0005.

Comment Date: 5 p.m. Eastern Time on Thursday, December 6, 2007.

Docket Numbers: ER08-218-000.

Applicants: Indiana Michigan Power Company.

Description: Indiana Michigan Power Company submits First Revised Sheet 16 et al. to its FERC Rate Schedule 101.

Filed Date: 11/15/2007.

Accession Number: 20071119-0004.

Comment Date: 5 p.m. Eastern Time on Thursday, December 6, 2007.

Docket Numbers: ER08-219-000.

Applicants: Indiana Michigan Power Company.

Description: Indiana Michigan Power Company submits First Revised Sheet 15 et al. to its FERC Rate Schedule 102.

Filed Date: 11/15/2007.

Accession Number: 20071119-0006.

Comment Date: 5 p.m. Eastern Time on Thursday, December 6, 2007.

Docket Numbers: ER08-220-000.

Applicants: New York Independent System Operator, Inc.

Description: New York Independent System Operator Inc. submits First Revised Sheet 710 et al. for Attachment V of its Open Access Transmission Tariff to revise its Working Capital Fund provisions.

Filed Date: 11/15/2007.

Accession Number: 20071119-0007.

Comment Date: 5 p.m. Eastern Time on Thursday, December 6, 2007.

Docket Numbers: ER08-221-000.

Applicants: PJM Interconnection, L.L.C.

Description: PJM Interconnection LLC submits an executed interconnection service agreement with Ameresco Stafford LLC et al. and a notice of cancellation of an ISA being superseded.

Filed Date: 11/15/2007.

Accession Number: 20071119-0008.

Comment Date: 5 p.m. Eastern Time on Thursday, December 6, 2007.

Docket Numbers: ER08-222-000.

Applicants: Southern California Edison Company.

Description: Southern California Edison Co. submits a Notice of Cancellation of the Amended and Restated Firm Transmission Service Agreement with Arizona Public Service Co.

Filed Date: 11/15/2007.

Accession Number: 20071119-0009.

Comment Date: 5 p.m. Eastern Time on Thursday, December 6, 2007.

Docket Numbers: ER08-223-000.

Applicants: Florida Power Corporation.

Description: Florida Power Corp dba Progress Energy Florida, Inc submits a cost-based power sales agreement with Seminole Electric Coop, Inc.

Filed Date: 11/15/2007.

Accession Number: 20071119-0010.

Comment Date: 5 p.m. Eastern Time on Thursday, December 6, 2007.

Docket Numbers: ER08-224-000

Applicants: Xcel Energy Operating Companies.

Description: Public Service Co of Colorado submits their Second Revised Sheet 328 et al. to their Joint Open Access Service Tariff.

Filed Date: 11/15/2007.

Accession Number: 20071119-0011.

Comment Date: 5 p.m. Eastern Time on Thursday, December 6, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E7-23523 Filed 12-4-07; 8:45 am]

BILLING CODE 6717-01-P